Proclamation 8758 of November 18, 2011

National Child’s Day, 2011

By the President of the United States of America

A Proclamation

As a Nation, we carry a fundamental responsibility to unlock the potential within every child. To prepare our children for the 21st century, we must continue to make investments in their health, development, and learning that will be lasting cornerstones of their success. Today, we celebrate our sons and daughters, and we recommit to giving them the future they deserve.

My Administration is committed to providing our children with the care and support that will give them a strong, healthy start. To help ensure all children have access to nutritious meals and encourage healthy choices early in life, I signed the Healthy, Hunger-Free Kids Act last year. We also launched MyPlate, a new food icon that can guide children and adults alike on healthy portions as they choose their next meal. These efforts go hand-in-hand with First Lady Michelle Obama’s Let’s Move! initiative, which is dedicated to solving the problem of childhood obesity within a generation. This year, over 1,250 schools took action to meet rigorous nutrition standards and expand opportunities for physical activity as part of our HealthierUS School Challenge, and 1.7 million Americans achieved the Presidential Active Lifestyle Award. By empowering children and their caregivers with the tools they need to eat well and lead active lifestyles, we take steps to instill healthy habits that will last into adulthood.

To build a more prosperous future for our children, we must equip them with a world-class education. My Administration is advancing educational opportunities for students of all ages, from early learning programs that start our children down the right path, to Pell Grants that open higher education to more Americans. In communities across our Nation, parents, teachers, principals, and school boards are coming together to develop stronger educational standards that will reward progress and accelerate student achievements. As we work to ensure every classroom is a safe, supportive place where students can cultivate a love of learning, we advance our goal of putting an outstanding education within reach for every child.

On National Child’s Day, we remember that the promise of a brighter tomorrow is fulfilled by what we do for our children today. As Americans, all of us share in the responsibility to do our utmost to give our children the love, safety, and protection that will nourish their development as healthy and productive individuals. Let us kindle in them the hunger for knowledge, the courage to follow their dreams, and the spirit to pursue possibility wherever it may lead.

NOW, THEREFORE, I, BARACK OBAMA, President of the United States of America, by virtue of the authority vested in me by the Constitution and the laws of the United States, do hereby proclaim November 20, 2011, as National Child’s Day. I call upon all citizens to observe this day with appropriate activities, programs, and ceremonies, and to rededicate ourselves to creating the bright future we want for our Nation’s children.

IN WITNESS WHEREOF, I have hereunto set my hand this eighteenth day of November, in the year of our Lord two thousand eleven, and of the Independence of the United States of America the two hundred and thirty-sixth.

[FR Doc. 2011-30462

Filed 11-22-11; 11:15 am]

Billing code 3295-F2-P